DEPARTMENT OF DEFENSE

Department of the Army

Performance Review Boards Membership

AGENCY: Department of the Army, DoD.

ACTION: Notice; correction.

SUMMARY: Reference the previous Federal Register notice (65 FR 55946), Friday, September 15, 2000, the notice announces the members of the Performance Review Board for the North Atlantic Treaty Organization (NATO). However, the notice requires the announcement of an additional board member. The following person is identified and listed as part of the Performance Review Board for NATO: Mr. Gayden Thompson, Deputy Under Secretary of the Army (International Affairs).

FOR FURTHER INFORMATION CONTACT: Nancy Quick, U.S. Army Senior Executive Service Office, Assistant Secretary of the Army (Manpower and Reserve Affairs), 111 Army Pentagon, Washington, DC 20310-0111.

SUPPLEMENTARY INFORMATION: None.

Gregory D. Showalter,
Army Federal Register Liaison Officer.

[FR Doc. 00-24295 Filed 9-20-00; 8:45 am]

BILLING CODE 3710-08-U